DEPARTMENT OF ENERGY

Federal Energy Regulatory Commission

[Docket No. RP05-672-003]

East Tennessee Natural Gas, LLC; Notice of Explanation of Terms

July 11, 2006.

Take notice that on May 15, 2006, East Tennessee Natural Gas, LLC (East Tennessee) filed an explanation in Docket No. RP05-672-003 to comply with a Commission order dated May 4, 2006 approving East Tennessee's pro forma tariff proposal to establish east-end pooling rights on its system (May 4 Order). (115 FERC ¶ 61,142 (2006)) East Tennessee had filed the east-end pooling proposal as required by Article IV of a Settlement approved by Commission order dated October 26, 2005. (113 FERC ¶ 61,099 (2005)) The May 4 Order noted that the proposal did not revise subsection 3.2 (Delivery Points) of Rate Schedule FT-GS (Pro Forma Sheet No. 123) to provide delivery point pooling rights. Therefore, the May 4 Order conditionally accepted East Tennessee's filing subject to East Tennessee either revising the pro forma tariff language by adding delivery point pooling rights to subsection 3.2 of Rate Schedule FT-GS, or explaining why the proposal fully complied with Article IV of the Settlement.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 18, 2006.

Magalie R. Salas,
Secretary.

[FR Doc. E6-11261 Filed 7-14-06; 8:45 am]

BILLING CODE 6717-01-P